NATIONAL SCIENCE FOUNDATION

Advisory Committee for Geosciences: Notice of Meeting

In accordance with the Federal Advisory Committee Act (Pub. L. 92-463, as amended), the National Science Foundation announces the following meeting:

Name: Advisory Committee for Geosciences (1755).

Dates: April 28-30, 2004.

Time: 1:30-5:30 p.m. Wednesday, April 28, 2004; 8:30 a.m.-5:30 p.m. Thursday, April 29, 2004; 8:30 a.m.-12 p.m. Friday, April 30, 2004.

Place: National Science Foundation, 4201 Wilson Boulevard, Room 1235, Arlington, VA 22230.

Type of Meeting: Open.

Contact Person: Dr. Thomas Spence, Directorate for Geosciences, National Science Foundation, Suite 705, 4201 Wilson Boulevard, Arlington, Virginia 22230, Phone 703-292-8500.

Minutes: May be obtained from the contact person listed above.

Purpose of Meeting: To provide advice, recommendations, and oversight concerning support for research, education, and human resources development in the geosciences.

Agenda:

Day 1: Directorate Activity Reports; Education and Diversity Subcommittee Meeting.

Day 2: Division Subcommittee Meeting; Future Directorate Initiatives.

Day 3: Planning and Coordination Activities; Intersessional Activities.

Dated: March 31, 2004.
Susanne Bolton,
Committee Management Officer.

[FR Doc. 04-7757 Filed 4-5-04; 8:45 am]

BILLING CODE 7555-01-M